DEPARTMENT OF HEALTH AND HUMAN SERVICES

National Institutes of Health

National Institute on Alcohol Abuse and Alcoholism; Amended Notice of Meeting

Notice is hereby given of a change in the meeting of the National Advisory Council on Alcohol Abuse and Alcoholism, May 10, 2022, 11:00 a.m. to May 11, 2022, 3:00 p.m., National Institute on Alcohol Abuse and Alcoholism, 6700B Rockledge Drive, Bethesda, MD 20817, which was published in the Federal Register on March 30, 2022, FR Doc. No. 2022-06714, 87 FR 18374.

This notice is being amended to change the start and end times of the open session on May 10, 2022, from 12:45 p.m. to 12:30 p.m. and from 5:00 p.m. to 5:30 p.m. As such the May 10, 2022, open session will now be held from 12:30 p.m. to 5:30 p.m. The meeting is partially closed to the public.

Dated: April 8, 2022.
Melanie J. Pantoja,
Program Analyst, Office of Federal Advisory Committee Policy.

[FR Doc. 2022-07910 Filed 4-12-22; 8:45 am]

BILLING CODE 4140-01-P